DEPARTMENT OF HEALTH AND HUMAN SERVICES

Centers for Disease Control and Prevention

Disease, Disability, and Injury Prevention and Control Special Emphasis Panel: State-Based Occupational Safety and Health Surveillance, Program Announcement With Special Receipt Date Program Announcement Number (PAR) 04-106

In accordance with section 10(a)(2) of the Federal Advisory Committee Act (Pub. L. 92-463), the Centers for Disease Control and Prevention (CDC) announces the following meeting:

Name: Disease, Disability, and Injury Prevention and Control.

Special Emphasis Panel: State-Based Occupational Safety and Health Surveillance, Program Announcement with Special Receipt Date PAR 04-106.

Time and Date: 12 p.m.-2 p.m., September 1, 2006 (Closed).

Place: Teleconference, 2400 Century Parkway, NE., 4th Floor, Atlanta, GA 30345.

Status: The meeting will be closed to the public in accordance with provisions set forth in section 552b(c)(4) and (6), Title 5 U.S.C., and the Determination of the Director, Management Analysis and Services Office, CDC, pursuant to Public Law 92-463.

Matters to be Discussed: The meeting will include the review, discussion, and evaluation of research grants in response to PAR 04-106, “State-Based Occupational Safety and Health Surveillance,” Program Announcement with Special Receipt Date.

Contact Person for More Information: M. Chris Langub, Ph.D., Scientific Review Administrator, National Institute for Occupational Safety and Health, Centers for Disease Control and Prevention, 1600 Clifton Road, Mailstop E-74, Atlanta, Georgia 30333, phone (404) 498-2543.

The Director, Management Analysis and Services Office, has been delegated the authority to sign Federal Register notices pertaining to announcements of meetings and other committee management activities, for both CDC and the Agency for Toxic Substances and Disease Registry.

Dated: August 10, 2006.
Alvin Hall,
Director, Management Analysis and Services Office, Centers for Disease Control and Prevention.

[FR Doc. E6-13555 Filed 8-16-06; 8:45 am]

BILLING CODE 4163-18-P